DEPARTMENT OF AGRICULTURE

National Institute of Food and Agriculture Service

[Docket No. NIFA-2018-003]

Notice of Intent for Renewal of a Currently Approved Information Collection

AGENCY: National Institute of Food and Agriculture, USDA.

ACTION: Notice and request for comments.

SUMMARY: In accordance with the Paperwork Reduction Act of 1995 and Office of Management and Budget (OMB) regulations, which implemented the Paperwork Reduction Act of 1995, this notice announces the National Institute of Food and Agriculture's (NIFA's) intention to request an extension for a currently approved information collection (OMB No. 0524-0026) for Form NIFA-666, “Organizational Information.”

DATES: Written comments on this notice must be received by September 25, 2018 to be assured of consideration. Comments received after that date will be considered to the extent practicable.

ADDRESSES: Written comments concerning this notice and requests for copies of the information collection may be submitted to Robert Martin, Records Officer, Information Policy, Planning and Training by any of the following methods: Mail: Office of Information Technology (OIT), NIFA/USDA; Mail Stop 2216; 1400 Independence Avenue SW; Washington, DC 20250-2299; Hand Delivery/Courier: 800 9th Street SW, Waterfront Centre, Room 4206, Washington, DC 20024; or Email: rmartin@nifa.usda.gov.

FOR FURTHER INFORMATION CONTACT: Robert Martin, Records Officer, Information Policy, Planning and Training, Office of Information Technology, NIFA/USDA, Email: rmartin@nifa.usda.gov.

SUPPLEMENTARY INFORMATION:

Title of Collection: Organizational Information.

OMB Control Number: 0524-0026.

Expiration Date of Current Approval: October 30, 2018.

Type of Request: Intent to extend a currently approved information collection for three years.

Abstract: NIFA has primary responsibility for providing linkages between the Federal and State components of a broad-based, national agricultural research, extension, and education system. Focused on national issues, its purpose is to represent the Secretary of Agriculture and carry out the intent of Congress by administering capacity and grant funds appropriated for agricultural research, extension, and education. Before awards can be made, certain information is required from applicants to effectively assess the potential recipient's capacity to manage Federal funds.

Need and Use of the Information: Form NIFA-666 “Organizational Information”: Enables NIFA to determine that the applicants recommended for awards will be responsible recipients of Federal funds. The information requested from the applicant pertains to the organizational and financial management of the potential grantee. This form and the attached applicant documents provide NIFA with information such as the legal name of the organization, certification that the organization has the legal authority to accept Federal funding, identification and signatures of the key officials, the organization's policies for employee compensation and benefits, equipment insurance, policies on subcontracting with other organizations, etc., as well the financial condition of the organization and certification that the organization is not delinquent on Federal taxes. All of this information is considered prior to award, to determine the grantee is both managerially and fiscally responsible. This information is submitted to NIFA on a one-time basis and updated accordingly. If sufficient changes occur within the organization, the grantee submits revised information.

Estimate of the Burden: NIFA estimates the number of responses for the Form NIFA-666 will be 150 with an estimated response time of 6.3 hours per form, representing a total annual burden of 945 hours for this form. These estimates are based on a survey of grantees that were approved for grant awards.

They were asked to give an estimate of time it took them to complete each form. This estimate was to include such things as: (1) Reviewing the instructions; (2) searching existing data sources; (3) gathering and maintaining the data needed; and (4) actual completion of the forms. The average time it took each respondent was calculated from their responses.

Comments: Comments are invited on: (a) Whether the proposed collection of information is necessary for the proper performance of the functions of the Agency, including whether the information will have a practical utility;

(b) the accuracy of the Agency's estimate of the burden of the proposed collection of information, including the validity of the methodology and assumptions used; (c) ways to enhance the quality, utility, and clarity of the information to be collected; and (d) ways to minimize the burden of the information collection on those who are to respond, including through the use of appropriate automated, electronic, mechanical, or other technological collection techniques or other forms of information technology.

Done at Washington, DC, this 19th day of July 2018.
Chavonda Jacobs-Young,
Acting Under Secretary for Research, Education and Economics.

[FR Doc. 2018-16100 Filed 7-26-18; 8:45 am]

BILLING CODE 3410-22-P